DEPARTMENT OF ENERGY

Office of Civilian Radioactive Waste Management; Site Recommendation Consideration; Suggested Topics for Public Comment Process

AGENCY: Office of Civilian Radioactive Waste Management, Department of Energy.

ACTION: Notice of suggested topics for public comment.

SUMMARY: The Department of Energy (the Department) provides suggested topics for public consideration regarding the possible recommendation by the Secretary of Energy to the President of the Yucca Mountain Site in Nevada for development as a spent nuclear fuel and high-level nuclear waste geologic repository, pursuant to Section 114(a)(1) of the Nuclear Waste Policy Act of 1982, as amended (NWPA).

DATES: As announced previously in the Federal Register (66 FR 43850-43851), written comments on the Secretary's consideration of Yucca Mountain for a potential site recommendation to the President will be accepted for consideration if received by September 20, 2001. Comments received after September 20, 2001, will be considered to the extent practicable.

ADDRESSES: Written comments should be addressed to Carol Hanlon, U.S. Department of Energy, Yucca Mountain Site Characterization Office, (M/S #025), P.O. Box 30307, North Las Vegas, Nevada 89036-0307, or provided by electronic mail to YMP_SR@ymp.gov. Written comments should be identified on the outside of the envelope, and on the comments themselves, with the designation: A Possible Site Recommendation for Yucca Mountain. Comments can also be submitted by facsimile to 1-800-967-0739.

Copies of any written comments, and documents referenced in this notice may be inspected and photocopied in the Department's Freedom of Information Act Reading Room located at the Yucca Mountain Science Center, 4101B Meadows Lane, Las Vegas, Nevada, (702) 295-1312, between the hours of 10:00 a.m. and 6:00 p.m. Tuesday through Friday, and 10:00 a.m. and 4:00 p.m. on Saturday, except for Federal holidays. Documents referenced in this notice may be found on the Internet at http://www.ymp.gov and at http://www.rw.doe.gov.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: On May 7, 2001, the Department announced in the Federal Register (66 FR 23013-23016) the initiation of a public comment period on the Secretary's consideration of the Yucca Mountain site for recommendation as a spent nuclear fuel and high-level waste repository. In conjunction with the initiation of the comment period, the Department issued a report, the Yucca Mountain Science and Engineering Report (YMS&ER), summarizing the scientific and technical information compiled by the Department to date outlining the preliminary design and performance attributes of a potential geologic repository at the Yucca Mountain site. This report was provided to inform the public and facilitate public comment and review on the technical and scientific information and analyses forming the basis for the Department's consideration of a possible site recommendation.

On August 21, 2001, the Department announced in the Federal Register (66 FR 43850-43851) the issuance of another report, the Preliminary Site Suitability Evaluation (PSSE), that also is intended to inform the public and facilitate public review and comment on a possible site recommendation. The PSSE contains a preliminary evaluation of the suitability of the Yucca Mountain site for development as a geologic repository based on the Department's proposed site suitability regulations, to be codified as 10 CFR part 963. The preliminary evaluation described in the PSSE is based on information contained in the YMS&ER, supplemented by the most recent available technical information. The Department also announced in that notice the scheduling of public hearings, pursuant to Section 114 (a)(1) of the NWPA, and the date for the closure of the public comment period (September 20, 2001).

Over the next several months, the Secretary will carefully consider a large body of scientific documents, as well as the views of the public, in determining whether to recommend to the President that the Yucca Mountain site be developed as a repository for spent nuclear fuel and high level radioactive waste. In order to encourage and facilitate public participation in that process, the Department has sent the attached letter to a list of governmental officials and members of the public whose interest in commenting the Department has anticipated. The letter contains a list of suggested topics for public comment. The list is not intended to be comprehensive. Nor is it intended to inhibit the public from commenting on any other relevant technical, policy or other issue related to a possible recommendation of the site. The Department is publishing the attached letter today so that members of the public who do not receive an actual copy will have the opportunity to add their comments in response to the suggested topics.

Issued in Washington, D.C. on August 27, 2001.
Ronald A. Milner,
Chief Operating Officer, Office of Civilian Radioactive Waste Management.

Attachment

Dear ___

Over the next several months the Secretary of Energy will carefully consider a large body of scientific documents, as well as the views of the public, and decide whether or not to recommend to the President that Yucca Mountain be developed to serve as our repository for spent nuclear fuel and high level radioactive waste. As you probably know, on August 21, 2001, the Department of Energy (Department) published a Federal Register notice (66 FR 43850) which scheduled public hearings and announced a closing date of September 20, 2001 for public comments on this possible recommendation by the Secretary. Your comments in response to this notice would be very much appreciated.

The Nuclear Waste Policy Act, as amended (the Act), establishes the Federal responsibility for the final disposition of spent nuclear fuel and high level radioactive waste in the United States. This responsibility includes 50 years of defense legacy wastes that have resulted from the development of nuclear weapons, spent fuel that has provided power for the United States Navy, spent fuel from the Nation's university research reactors, and spent fuel from the Nation's civilian reactors, which provide approximately twenty percent of our domestic electricity supply.

The Department has spent 20 years and over $6.7 billion studying various means to fulfill the Federal responsibility. Since 1987, at the direction of the Act, the Department has been required to focus exclusively on the Yucca Mountain site. The result of this effort is contained within the Yucca Mountain Preliminary Site Suitability Evaluation (PSSE) and other scientific documents produced by the Department. The PSSE and these other supporting technical documents are available on the Internet (http://ymp.gov), or may be requested by telephone (1-800-967-3477).

The Secretary's recommendation regarding the Yucca Mountain site is an important intermediate step in the decades-long process for siting and developing a repository. If the Secretary determines that the scientific evaluation of the site indicates the site is suitable for development of a repository, he may then submit a recommendation for site development to the President. If the President accepts the Secretary's positive recommendation, he would recommend the site as qualified for application for a construction license from the Nuclear Regulatory Commission (NRC). The State of Nevada would then have the opportunity to submit a disapproval notice. If it does so, Congress would have to pass a law approving the President's recommendation in order for it to take effect. If the President's recommendation does take effect, the Department would then prepare and submit a construction license application to NRC.

It is important to note that, following a possible Presidential recommendation and prior to either the construction of or use of a repository, numerous additional steps must be satisfied. These steps include consideration of the Presidential recommendation by the State of Nevada and possibly the United States Congress. In addition, construction of a facility and receipt of waste requires the issuance of a construction license and a license to possess nuclear material, respectively, by the NRC after a rigorous review process with public involvement.

In providing comments to the Department, there are a number of topics regarding which your views and comments would be appreciated. An outline of these topics is attached for your use. The Department also values any other comments you believe would be relevant to its consideration. Your participation on this critical issue is important and helpful. Thank you for your assistance.

Sincerely,

Lake H. Barrett,

Acting Director, Office of Civilian Radioactive Waste Management.

Suggested Topics for Public Comment on Yucca Mountain

• Please provide your views concerning whether the Yucca Mountain Preliminary Site Suitability Evaluation (PSSE) and other scientific documents produced by the Department provide an adequate basis for finding that the Yucca Mountain site is suitable for development of a repository. If you believe that certain aspects of the PSSE are inadequate, please detail the basis for this belief and indicate how the documentation might be made adequate with respect to these aspects.

• If the Secretary determines that the scientific analysis indicates that the Yucca Mountain site is likely to meet the applicable radiation protection standards established by the Environmental Protection Agency and Nuclear Regulatory Commission, do you believe that the Secretary should proceed to recommend the site to the President at this time? If not, please explain.

• Are there any reasons that you believe should prevent the President from concluding that the Yucca Mountain site is qualified for the preparation and submission of a construction license application to the Nuclear Regulatory Commission?

• If you believe that the Secretary should not proceed with a recommendation to develop a repository at Yucca Mountain, what mechanism should be utilized to meet the Department's legal obligation to begin accepting spent nuclear fuel and high level radioactive waste?

• If you believe that the Secretary should not proceed with a recommendation to develop a repository at Yucca Mountain, what measures should the Nation consider for assuring safe disposal of spent nuclear fuel and high level radioactive waste?

• Please provide any other comments concerning any relevant aspect of the Yucca Mountain site for use as a repository, or that are otherwise relevant to the consideration of a possible recommendation by the Secretary.

[FR Doc. 01-21961 Filed 8-27-01; 4:47 pm]

BILLING CODE 6450-01-P